COMMODITY FUTURES TRADING COMMISSION

17 CFR Parts 1, 16, and 38

RIN 3038-AD09

Core Principles and Other Requirements for Designated Contact Markets

AGENCY: Commodity Futures Trading Commission.

ACTION: Notice of proposed rulemaking; extension of comment period.

SUMMARY: The Commodity Futures Trading Commission (“Commission”) is extending the comment period for proposed regulation 38.502(a) (“Minimum Centralized Market Trading Percentage Requirement”), in light of the recent public release of the off-market volume data referenced by the Commission in the Federal Register release for the notice of proposed rulemaking for “Core Principles and Other Requirements for Designated Contract Markets”, 75 FR 80572 (Dec. 22, 2010). The comment period is being extended for this regulation to permit interested persons to submit comments on off-market volume data that has recently been made available to the public and to which the Commission referred in its notice of proposed rulemaking.

DATES: Submit comments on or before April 18, 2011.

ADDRESSES: You may submit comments, identified by RIN number, by any of the following methods:

• Agency Web site, via its Comments Online process: http://comments.cftc.gov. Follow the instructions for submitting comments through the Web site.

• Mail: David A. Stawick, Secretary of the Commission, Commodity Futures Trading Commission, Three Lafayette Centre, 1155 21st Street, NW., Washington, DC 20581.

• Hand Delivery/Courier: Same as mail above.

• Federal eRulemaking Portal: http://www.Regulations.gov. Follow the instructions for submitting comments.

Please submit comments by only one method.

All comments must be submitted in English, or if not, accompanied by an English translation. Comments will be posted as received to http://www.cftc.gov. You should submit only information that you wish to make available publicly. If you wish the Commission to consider information that may be exempt from disclosure under the Freedom of Information Act (“FOIA”), a petition for confidential treatment of the exempt information may be submitted according to the procedures established in § 145.9 of the Commission's regulations.¹ The Commission reserves the right, but shall have no obligation, to review, pre-screen, filter, redact, refuse, or remove any or all of your submission from http://www.cftc.gov that it may deem to be inappropriate for publication, such as obscene language. All submissions that have been redacted or removed that contain comments on the merits of the rulemaking will be retained in the public comment file and will be considered as required under the Administrative Procedure Act and other applicable laws, and may be accessible under FOIA.

¹ Commission regulations referred to herein are found at 17 CFR Ch. 1 (2010). They are accessible on the Commission's Web site at http://www.cftc.gov.

FOR FURTHER INFORMATION CONTACT: Nancy Markowitz, Assistant Deputy Director, 202-418-5453, nmarkowitz@cftc.gov, or Nadia Zakir, Attorney-Advisor, 202-418-5720, nzakir@cftc.gov, Division of Market Oversight, Commodity Futures Trading Commission, Three Lafayette Centre, 1155 21st Street, NW., Washington, DC 20581.

SUPPLEMENTARY INFORMATION: On December 22, 2010, the Commission published in the Federal Register a notice of proposed rulemaking, in which it proposed rules, guidance, and acceptable practices, to be applicable to the designation and operation of contract markets, as well as the listing, trading, and execution of swaps on designated contract markets.² The notice of proposed rulemaking would implement certain provisions of sections 723, 733, and 735 of the Wall Street Reform and Consumer Protection Act (the “Dodd-Frank Act”). The comment period for the proposed rulemaking closed on February 22, 2011.

² See Core Principles and Other Requirements for Designated Contract Markets, 75 FR 80572, 80588-89, Dec. 22, 2010.

Since the close of the proposed rulemaking, data has been made publicly available to support the rulemaking, in particular, proposed § 38.502(a), the proposed “minimum centralized market trading percentage requirement.” Discussion of this proposed requirement is available in the notice of proposed rulemaking at pages 80588 and 80589 of the Federal Register publication. The data has been made available on the Commission's Web site at http://comments.cftc.gov/FederalRegister/Proposed.aspx?Type=ListAll&Year=2010, the same location as the Commission's notice of proposed rulemaking. All persons wishing to comment on proposed regulation 38.502(a) (“Minimum Centralized Market Trading Percentage Requirement”), in light of the data that has been made available may do so by submitting comments using one of the methods provided above through April 18, 2011.

Issued in Washington, DC, on March 14, 2011, by the Commission.
David A. Stawick,
Secretary of the Commission.

[FR Doc. 2011-6382 Filed 3-17-11; 8:45 am]

BILLING CODE 6351-01-P